FEDERAL COMMUNICATIONS COMMISSION

47 CFR Part 73

[DA 01-2378; MM Docket No. 00-226; RM-10001]

Radio Broadcasting Services; Fair Bluff, NC, Litchfield Beach, Johnsonville and Olanta, SC

AGENCY: Federal Communications Commission.

ACTION: Final rule.

SUMMARY: The Commission denies request of joint petitioners Atlantic Broadcasting Co., Inc., permittee of Station WSIM(FM), Channel 287C3, Fair Bluff, North Carolina, and The Waccamaw Neck Broadcasting Company, licensee of Station WPDT(FM), Channel 286A, Johnsonville, South Carolina. The Report and Order denies the request for the reallotment of Channel 286A from Johnsonville, South Carolina, to Olanta, South Carolina, as the community's first local aural transmission service, because it would remove the community's sole local transmission service without countervailing public interest benefits. It denies as moot the reallotment of Channel 287C3 from Fair Bluff, North Carolina, to Litchfield Beach, South Carolina, as the community's first local aural transmission service.

FOR FURTHER INFORMATION CONTACT: Victoria McCauley, Mass Media Bureau, (202) 418-2180.

SUPPLEMENTARY INFORMATION: This is a synopsis of the Commission's Report and Order, MM Docket No. 00-226, adopted October 3, 2001, and released October 12, 2001. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

Federal Communications Commission.
John A. Karousos,
Chief, Allocations Branch, Policy and Rules Division, Mass Media Bureau.

[FR Doc. 01-26750 Filed 10-23-01; 8:45 am]

BILLING CODE 6712-01-P